DEPARTMENT OF LABOR

Employment and Training Administration

[TA-W-52,638]

Vesuvius USA, Champaign Machine Shop, Champaign, Illinois; Notice of Termination of Investigation

Pursuant to Section 221 of the Trade Act of 1974, as amended, an investigation was initiated on August 21, 2003 in response to a worker petition filed by the company on behalf of workers at Vesuvius USA, Champaign Machine Shop, Champaign, Illinois.

The petitioner has requested that the petition be withdrawn. Consequently, the investigation has been terminated.

Signed at Washington, DC this 9th day of September, 2003.
Richard Church,
Certifying Officer, Division of Trade Adjustment Assistance.

[FR Doc. 03-25734 Filed 10-9-03; 8:45 am]

BILLING CODE 4510-30-P